DEPARTMENT OF THE INTERIOR

Bureau of Land Management

[LLOROR957000-L63100000-BJ000: HAG10-0389]

Filing of Plats of Survey: Oregon/Washington

AGENCY: Bureau of Land Management, Interior.

ACTION: Notice.

SUMMARY: The plats of survey of the following described lands are scheduled to be officially filed in the Bureau of Land Management Oregon/Washington State Office, Portland, Oregon, 30 days from the date of this publication.

Willamette Meridian

Oregon

T. 4 S., R. 4 E., accepted July 6, 2010

T. 22 S., R. 8 W., accepted August 16, 2010

T. 19 S., R. 7 W., accepted August 18, 2010

T. 29 S., R. 9 W., accepted August 18, 2010

T. 14 S., R. 8 W., accepted August 25, 2010

T. 34 S., R. 2 E., accepted August 27, 2010

ADDRESSES: A copy of the plats may be obtained from the Land Office at the Oregon/Washington State Office, Bureau of Land Management, 333 SW. 1st Avenue, Portland, Oregon 97204, upon required payment. A person or party who wishes to protest against a survey must file a notice that they wish to protest (at the above address) with the Oregon/Washington State Director, Bureau of Land Management, Portland, Oregon.

FOR FURTHER INFORMATION CONTACT: Kyle Hensley, (503) 808-6124, Branch of Geographic Sciences, Bureau of Land Management, 333 SW. 1st Avenue, Portland, Oregon 97204.

Cathie Jensen,
Acting Chief, Branch of Land, Mineral, and Energy Resources.

[FR Doc. 2010-23747 Filed 9-22-10; 8:45 am]

BILLING CODE 4310-33-P